DEPARTMENT OF TRANSPORTATION

Federal Aviation Administration

Notice of Passenger Facility Charger (PFC) Approvals and Disapprovals

AGENCY: Federal Aviation Administration (FAA), DOT.

ACTION: Monthly Notice of PFC Approvals and Disapprovals. In August 2005, there were 14 applications approved. This notice also includes information on two applications, one approved in April 2005 and the other in July 2005, inadvertently left off the April 2005 and July 2005 notices, respectively. Additionally, 22 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Monroe County Board of Commissioners, Key West, Florida.

Application Number: 05-09-C-00-EYW.

Application Type: Impose and use a PFC.

PFC Level: $4.50.

Total PFC Revenue Approved in This Decision: $361,645.

Earliest Charge Effective Date: October 1, 2005.

Estimated Charge Expiration Date: November 1, 2005.

Classes of Air Carriers Not Required to Collect PFC's: (1) Air taxi/commercial operators filing FAA Form 1800-31; and (2) commuters or small certificated air carriers filing Department of Transportation Form 298C-T1 or E1.

Determination: Approved. Based on information contained in the public agency's application, the FAA has determined that each proposed class accounts for less than 1 percent of the total annual enplanements at Key West International Airport (EYW).

Brief Description of Projects Approved for Collection at EYW:

New terminal complex development (phase III).

Runway 9/27 safety area development (phase III).

Brief Description of Projects Approved for Collection EYW and Use at EYW:

PFC application.

Noise improvement program phase 5 design and development.

Security perimeter fencing (phase II).

Approach clearing runway 9/27.

Brief Description of Projects Approved for Collection at EYW and Use at Marathon Airport:

T-Hangar taxilanes (phase II) including taxiway A extension.

Rehabilitate terminal canopy (phase II).

Relocate wind sock/segmented circle.

Generator for rotating beacon.

Decision Date: April 5, 2005.

FOR FURTHER INFORMATION CONTACT: Susan Moore, Orlando Airports District Office, (407) 812-6331.

Public Agency: Missoula County Airport Authority, Missoula, Montana.

Application Number: 05-05-C-00-MSO.

Application Type: Impose and use a PFC.

Total PFC Revenue Approved in This Decision: $2,339,144.

PFC Level: $4.50.

Earliest Charge Effective Date: October 1, 2005.

Estimated Charge Expiration Date: June 1, 2007.

Class of Air Carriers Not Required to Collect PFC's: Air tax/commercial operators filing FAA Form 1800-31.

Determination: Approved. Based on information contained in the public agency's application, the FAA has determined that the proposed class accounts for less than 1 percent of the total annual enplanements at Missoula International Airport.

Brief Description of Projects Approved for Collection and Use:

Rehabilitation of taxiways D, G, and F.

Passenger loading bridges.

Aircraft rescue and firefighting vehicle.

Extend taxiway A.

Airfield snow removal equipment.

Airport planning study.

Construct access taxiway.

Security enhancements.

Decision Date: July 22, 2005.

FOR FURTHER INFORMATION CONTACT: David S. Stelling, Helena Airports District Office, (406) 449-5271.

Public Agency: Board of Trustees, University of Illinois, Savoy, Illinois.

Application Number: 05-03-C-00-CMI.

Application Type: Impose and use a PFC.

PFC Level: $4.50.

Total PFC Revenue Approved in This Decision: $2,135,160.

Earliest Charge Effective Date: October 1, 2005.

Estimated Charge Expiration Date: July 1, 2009.

Class of Air Carriers Not Required to Collect PFC's: Nonscheduled/on-demand operators filing FAA Form 1800-31.

Determination: Approved. Based on information contained in the public agency's application, the FAA has determined that the proposed class accounts for less than 1 percent of the total annual enplanements at University of Illinois—Willard Airport.

Brief Description of Projects Approved for Collection and Use:

Air carrier apron rehabilitation study.

Terminal road access rehabilitation.

Rehabilitate air carrier apron (phase 1).

PFC program development.

Replace visual approach slope indicators with precision approach path indicators.

Acquisition/installation of new terminal doorways.

Replacement loading bridge for regional jets.

Modification of existing loading bridges.

Acquire snow removal rotary broom.

New sand and deicing material cold storage building.

Rehabilitate air carrier apron (phase 2).

Decision Date: August 3, 2005.

FOR FURTHER INFORMATION CONTACT: Gary Wilson, Chicago Airports District Office, (847) 294-7631.

Public Agency: Kenton County Airport Board, Covington, Kentucky.

Application Number: 05-09-C-00-CVG.

Application Type: Impose and use a PFC.

Total PFC Revenue Approved in This Decision: $47,226,928.

PFC Level: $3.00.

Earliest Charge Effective Date: January 1, 2009.

Estimated Charge Expiration Date: October 1, 2010.

Classes of Air Carriers Not Required to Collect PFC's: (1) Part 121 supplemental operators which operate at the airport without an operating agreement and enplane less than 1,500 passengers per year; and (2) Part 135 on-demand air taxis, both fixed wing and rotary.

Determination: Approved. Based on information contained in the public agency's application, the FAA has determined that each proposed class accounts for less than 1 percent of the total annual enplanements at Cincinnati/Northern Kentucky International Airport.

Brief Description of Projects Approved for Collection and Use: Extend terminal access/service road from Donaldson Road to Hossman Road.

Snow equipment replacements.

Deicing trucks (two).

Crash truck.

Quick response truck.

Kentucky Route 212 interchange improvements—planning/design.

Airport security master plan projects.

Sound insulation of schools and churches.

Upgrade runway 18R and 18L instrument landing system to category II.

Upgrade terminal 3 and concourse A, B, and C paging/sound systems.

Terminal 1 and concourse redevelopment project—planning/design.

Deicing enhancements.

Terminal 2 improvements.

Surface movement guidance and control system.

Driver's training simulator.

Closed circuit television digital recording system upgrade.

Runway 9/27 rehabilitation.

Runway 18R/36L rehabilitation.

Security screening building for concourse C—planning and preliminary design.

Apron/taxi lane pavement rehabilitation.

Identification electronic fingerprinting equipment and required identification department building modifications.

Decision Date: August 3, 2005.

FOR FURTHER INFORMATION CONTACT: Jerry O. Bowers, Memphis Airports District Office, (901) 322-8184.

Public Agency: City of Fayetteville, North Carolina.

Application Number: 05-03-C-00-FAY.

Application Type: Impose and use a PFC.

Total PFC Revenue Approved in This Decision: $835,286.

PFC Level: $3.00.

Earliest Charge Effective Date: October 1, 2005.

Estimated Charge Expiration Date: February 1, 2006.

Class of Air Carriers Not Required to Collect PFC'S: None.

Brief Description of Projects Approved for Collection and Use:

Terminal loop roadway (design/construction).

Obstruction removal (design/construction).

Master plan.

Snow plows.

Handicap lift device.

Fire training facility evaluation/study.

Storm water management evaluation/study.

PFC application (original program).

PFC application (program 2).

Terminal roof replacement.

Runway crack repair and paint.

Pavement condition index study.

Airport beacon replacement.

Jet bridge modifications (gates B-2 and B-4) for regional jets.

Runway 4/22 rehabilitation design.

Generator/vault upgrade.

Aircraft rescue and firefighting expansion.

Runway 4/22 rehabilitation—construction.

Replacement jet bridge for B4.

Rehabilitate airfield lighting.

Pavement rehabilitation (per pavement condition index study).

Pave aircraft rescue and firefighting and surveillance road.

Fire training facility upgrade.

Security cameras system.

Replace aircraft rescue and firefighting vehicle.

PFC program consulting.

Brief Description of Projects Approved for Collection:

Widen taxiway A.

South general aviation ramp overlay/expansion.

Runway 4/22 hold pads.

Brief Description of Projects Disapproved: FAA certification exhibits.

Determination: Project does not meet the definition of eligible planning or development per § 158.15(b).

Airport operations vehicle.

Determination: Project does not meet the requirements of § 158.15(b)(1).

Storm water improvement project.

Determination: The FAA has not made a final environmental determination for this project. Therefore, the project does not meet the requirements of § 158.30(c)(1)(ii).

Runway 10/28 rehabilitation design.

Runway 10/28 rehabilitation—construction.

Determination: The projects do not meet Airport Improvement Program (AIP) eligibility requirements in accordance with paragraph 521(c) of FAA Order 5100.38B, Change 2, AIP Handbook (May 16, 2005). The FAA has determined that the primary runway provides recommended wind coverage and the secondary runway is not required for operational need.

Taxiway A extension.

Determination: The project is not shown on the currently approved airport layout plan. Therefore, the project does not meet the requirements of § 158.30(c)(1)(ii).

North general aviation ramp overlay (lower area).

Determination: The project description is very similar to a project approved in the FAA's 00-01-C-00-FAY Record of Decision. There is not enough information in the notice of intent to determine if this is a different project.

Decision Date: August 9, 2005.

FOR FURTHER INFORMATION CONTACT: Scott L. Seritt, Atlanta Airports District Office, (404) 305-7150.

Public Agency: Bradford Regional Airport Authority, Lewis Run, Pennsylvania.

Application Number: 05-04-U-00-BFD.

Application Type: Use PFC revenue.

PFC Level: $4.50.

Total PFC Revenue to be Used in This Decision: $46,801.

Charge Effective Date: May 1, 2003.

Estimated Charge Expiration Date: April 1, 2011.

Class of Air Carriers Not Required to Collect PFC'S: No change from previous decision.

Brief Description of Projects Approved for Use:

Rehabilitate access road.

Land acquisition/obstruction removal.

Runway 32 safety area, phase II.

Decision Date: August 9, 2005.

FOR FURTHER INFORMATION CONTACT: Lori Ledebohm, Harrisburg Airports District Office (717) 730-2835.

Public Agency: Broome County Department of Aviation, Johnson City, New York.

Application Number: 05-08-C-00-BGM.

Application Type: Impose and use a PFC.

PFC Level: $4.50.

Total PFC Revenue to be Used in This Decision: $1,078,421.

Earliest Charge Effective Date: December 1, 2005.

Estimated Charge Expiration Date: February 1, 2008.

Class of Air Carriers Not Required to Collect PFC'S: Nonscheduled/on-demand air carriers filing FAA Form 1800-31.

Determination: Approved. Based on information contained in the public agency's application, the FAA has determined that the proposed class accounts for less than 1 percent of the total annual enplanements at Greater Binghamton Airport.

Brief Description of Projects Approved for Collection and Use:

Taxiway rehabilitation (construction).

PFC administrative (2006-2010) cost reimbursement.

Purchase snow removal equipment.

Runway 10/28 safety area improvements.

Airport entrance road improvements.

Airport master plan update.

Airport service road improvements.

Decision Date: August 10, 2005.

FOR FURTHER INFORMATION CONTACT: Robert Levine, New York Airports District Office, (516) 227-3807.

Public Agency: Monroe County Board of Commissioners, Key West, Florida.

Application Number: 05-10-C-00-EYW.

Application Type: Impose and use a PFC.

PFC Level: $4.50.

Total PFC Revenue Approved in This Decision: $48,810,445.

Earliest Charge Effective Date: November 1, 2005.

Estimated Charge Expiration Date: November 1, 2037.

Classes of Air Carriers Not Required to Collect PFC'S: (1) Air taxi/commercial operators filing FAA Form 1800-31; and (2) commuters or small certificated air carriers filing Department of Transportation Form 298C-T1 or E1.

Determination: Approved. Based on information contained in the public agency's application, the FAA has determined that each proposed class accounts for less than 1 percent of the total annual enplanements at Key West International Airport.

Brief Description of Projects Approved for Collection:

New passenger terminal building.

Terminal roadway and ramps.

Brief Description of Projects Approved for Collection and Use:

Land acquisition, runway protection zone runway 27.

PFC application development.

PFC program administration.

Decision Date: August 12, 2005.

FOR FURTHER INFORMATION CONTACT: Susan Moore, Orlando Airports District Office, (407) 812-6331.

Public Agency: Capital Region Airport Authority, Lansing, Michigan.

Application Number: 05-05-C-00-ALLAN.

Application Type: Impose and use a PFC.

PFC Level: $4.50.

Total PFC Revenue Approved in This Decision: $23,838,563.

Earliest Charge Effective Date: July 1, 2008.

Estimated Charge Expiration Date: February 1, 2022.

Class of Air Carriers not Required to Collect PFC'S: Nonscheduled Part 135 and air taxi operators.

Determination: Approved. Based on information contained in the public agency's application, the FAA has determined that the proposed class accounts for less than 1 percent of the total annual enplanements at Capital City Airport.

Brief Description of Projects Approved for Collection and Use:

1992 debt service terminal bond debt.

Extend runway 10R/28L to 8,500 feet.

Land/building acquisition.

Mill/resurface.

Expand hold room and construct vestibules.

Acquire/ install/ relocate/ rehabilitate loading bridges.

Runway safety area 6/24 and west service road.

Environmental assessment and preliminary engineering, runway 10R/28L extension.

Construct taxiway and rehabilitate terminal.

Snow removal equipment storage building expansion concepts and design.

Snow removal equipment.

Redirect glycol disposal outlet.

Reconstruct aircraft rescue and firefighting/fuel access road.

Replace lighting system on runway 6/24.

Taxiway G mill and overlay.

Construct taxiway to east ramp.

Pavement management plan update.

Expand freight ramp.

Reconstruct T-Hangar taxi streets.

Decision Date: August 12, 2005.

FOR FURTHER INFORMATION CONTACT: Jason K. Watt, Detroit Airports District Office, (734) 229-2906.

Public Agency: City of Des Moines, Iowa.

Application Number: 050-09-C-00-DSM.

Application Type: Impose and use a PFC.

PFC Level: $4.50.

Total PFC Revenue Approved in This Decision: $10,577.162.

Earliest Charge Effective Date: January 1, 2012.

Estimated Charge Expiration Date: August 1, 2015.

Class of air Carriers Not Required to Collect PFC'S: Part 135 air taxi/commercial operators.

Determination: Approved. Based on information contained in the public agency's application, the FAA has determined that the proposed class accounts for less than 1 percent of the total annual enplanements at Des Moines International Airport.

Brief Description of Projects Approved for Collection and Use:

Airport access control system.

Runway 31 category II centerline lights.

Construct runway 5/23 extension.

Extend taxiway P.

Noise compatibility program.

Runway/taxiway signage.

Terminal apron reconstruction.

South cargo ramp extension.

Southeast service road relocation.

Rehabilitation of runway 13L/31R.

Security gate upgrade.

Land acquisition—runway 13R/31L.

Decision Date: August 16, 2005.

FOR FURTHER INFORMATION CONTACT: Lorna K. Sandridge, Central Region Airports Division, (816) 329-2641.

Public Agency: City of Portland, Maine.

Application Number: 05-04-U-00-PWM.

Application Type: Use PFC revenue.

PFC Level: $3.00.

Total PFC Revenue To Be Used in This Decision: $8,163,503.

Charge Effective Date: February 1, 2004.

Estimated Charge Expiration Date: March 1, 2013.

Class of Air Carriers Not Required To Collect PFC'S: No change from previous decision.

Brief Description of Project Approved For Use: Baggage claim expansion and improvements.

Decision Date: August 17, 2005.

FOR FURTHER INFORMATION CONTACT: Priscilla Scott, New England Region Airports Division, (781) 238-7614.

Public Agency: Metropolitan Washington Airports Authority, Washington, District of Columbia.

Application Number: 05-05-C-00-IAD.

Application Type: Impose and use a PFC.

PFC Level: $4.50.

Total PFC Revenue Approved in This Decision: $672,867,049.

Earliest Charge Effective Date: January 1, 2007.

Estimated Charge Expiration Date: May 1, 2017.

Class of Air Carriers Not Required to Collect PFC'S: Nonscheduled/on-demand air carriers filing FAA Form 1800-31.

Determination: Approved. Based on information contained in the public agency's application, the FAA has determined that the proposed class accounts for less than 1 percent of the total annual enplanements at Washington Dulles International Airport.

Brief Description of Project Approved for Collection and Use: People mover system, tunnels, and station.

Decision Date: August 17, 2005.

FOR FURTHER INFORMATION CONTACT: Terry Page, Washington Airports District Office, (703) 661-1354.

Public Agency: City of Dayton, Ohio.

Application Number: 05-05-C-00-DAY.

Application Type: Impose and use a PFC.

PFC Level: $4.50.

Total PFC Revenue Approved in This Decision: $33,577,115.

Earliest Charge Effective Date: December 1, 2013.

Estimated Charge Expiration Date: February 1, 2018.

Class of Air Carriers Not Required To Collect PFC'S: Air taxi/commercial operators.

Determination: Approved. Based on information contained in the public agency's application, the FAA has determined that the proposed class accounts for less than 1 percent of the total annual enplanements at Dayton Airport.

Brief Description of Projects Approved for Collection and Use:

Terminal environmental restoration.

In-line baggage make-up facility.

Decision Date: August 19, 2005.

FOR FURTHER INFORMATION CONTACT: Jason Watt, Detroit Airports District Office, (734) 229-2906.

Public Agency: City of Syracuse Department of Aviation, Syracuse, New York.

Application Number: 05-05-C-00-SYR

Application Type: Impose and use a PFC.

PFC Level: $4.50.

Total PFC Revenue Approved in This Decision: $6,119, 197.

Earliest Charge Effective Date: November 1, 2005.

Estimated Charge Expiration Date: February 1, 2007.

Class of Air Carriers Not Required to collect PFC'S: Nonscheduled/on-demand air carriers filing FAA Form 1800-31.

Determination: Approved. Based on information contained in the public agency's application, the FAA has determined that the proposed class accounts for less than 1 percent of the total annual enplanements at Syracuse-Hancock International Airport.

Brief Description of Projects Approved for Collection and Use:

Noise mitigation—school sound insulation.

Runway 15 obstruction removal.

Perimeter security road.

Airport master plan.

Snow removal equipment.

Aircraft rescue and firefighting vehicle.

Overlay taxiways B and M.

General aviation area safety improvement.

Construct snow removal equipment building.

Runway 10/28 overlay.

Runway 33 safety area improvements.

Rehabilitate airfield drainage—phase II.

Snow removal equipment.

Rehabilitate general aviation apron and taxiways Y and N.

Prepare PFC application.

Rehabilitate taxiways K, M, and S.

Decision Date: August 22, 2005.

FOR FURTHER INFORMATION CONTACT: Robert Levine, New York Airports District Office, (516) 227-3807.

Public Agency: Charlottesville-Albemarle Airport Authority, Charlottesville, Virginia.

Application Number: 05-17-C-00-CHO

Application Type: Impose and use a PFC.

PFC Level: $4.50.

Total PFC Revenue Approved in This Decision: $2,871,360.

Earliest Charge Effective Date: February 1, 2006.

Estimated Charge Expiration Date: June 1, 2010.

Class of Air Carriers Not Required to Collect PFC'S: All air taxi/commercial operators filing or requested to file FAA Form 1800-31.

Determination: Approved. Based on information contained in the public agency's application, the FAA has determined that the proposed class accounts for less than 1 percent of the total annual enplanements at Charlottesville-Albermarle Airport.

Brief Description of Projects Approved for Collection and Use:

Air carrier terminal building modifications.

Acquire aircraft rescue and firefighting equipment.

T-Hangar taxilane and site preparation.

Acquire snow removal vehicle.

Brief Description of Projects Approved for Collection:

Terminal building modifications.

Extend runway 21.

Rehabilitate airfield lighting vault (design).

Decision Date: August 22, 2005.

FOR FURTHER INFORMATION CONTACT: Luis Loarte, Washington Airports District Office (703) 661-1365.

Public Agency: City of Kearney, Nebraska.

Application Number: 05-01-C-00-EAR

Application Type: Impose and use a PFC.

PFC Level: $4.50.

Total PFC Revenue Approved in this Decision: $150,000.

Earliest Charge Effective Date: November 1, 2005.

Estimated Charge Expiration Date: March 1, 2010.

Class of Air Carriers Not Required to Collect PFC'S: None.

Brief Description of Projects Approved for Collection and Use:

Design and build terminal expansion.

Decision Date: August 25, 2005.

FOR FURTHER INFORMATION CONTACT: Lorna K. Sandridge, Central Region Airports Division, (816) 329-2641.

Amendments to PFC Approvals
Amendment no. city, State | Amendment approved date | Original approved net PFC revenue | Amended approved net PFC revenue | Original estimated charge exp. date | Amended estimated charge exp. date
92-01-l-02-BTR, Baton Rouge, LA. | 1/20/05 | $8,982,260 | $2,065,057 | 12/01/98 | 11/01/94
93-02-U-01-BTR, Baton Rouge, LA. | 1/20/05 | NA | NA | 12/01/98 | 11/01/94
*97-04-C-02-BTR, Baton Rouge, LA. | 1/20/05 | 19,069,316 | 37,570,400 | 8/01/16 | 10/01/19
00-05-C-01-BTR, Baton Rouge, LA | 1/20/05 | 6,504,390 | 4,363,572 | 1/01/22 | 11/01/21
02-09-C-03-MCO, Orlando, FL. | 4/28/05 | 225,137,998 | 163,040,998 | 11/01/17 | 4/01/16
01-12-C-01-BDL, Windsor Locks, CT. | 7/19/05 | 231,947,428 | 257,534,407 | 3/01/15 | 3/01/16
01-03-C-03-LIT, Little Rock, AR. | 7/25/05 | 18,850,300 | 20,988,973 | 10/01/05 | 5/01/06
01-03-C-03-LYH, Lynchburg, VA. | 7/28/05 | 705,654 | 699,770 | 5/01/05 | 5/01/05
02-02-C-04-BFD, Bradford, PA. | 7/29/05 | 277,225 | 242,438 | 7/01/13 | 7/01/13
03-02-C-01-ACY, Atlantic City, NJ. | 8/01/05 | 1,573,274 | 1,362,274 | 6/01/06 | 4/01/06
95-02-C-06-BGM, Binghamton, NY. | 08/1/05 | 1,063,924 | 1,063,500 | 1/01/22 | 9/01/98
99-04-C-05-BGM, Binghamton, NY. | 8/01/05 | 1,204,917 | 1,204,917 | 4/01/02 | 4/01/02
01-02-C-03-HRL, Harlingen, TX. | 8/01/05 | 5,456,858 | 5,436,858 | 12/01/07 | 12/01/07
00-01-C-02-FAY, Fayetteville, NC. | 8/08/05 | 1,026,513 | 1,233,106 | 11/01/05 | 10/01/05
02-02-U-01-FAY, Fayetteville, NC | 8/08/05 | NA | NA | 11/01/05 | 10/01/05
02-02-C-03-BFD, Bradford, PA. | 8/09/05 | 329,504 | 277,225 | 7/01/13 | 7/01/13
03-02-C-02-ACY, Atlantic City, NJ. | 8/16/05 | 1,362,274 | 1,363,575 | 4/01/06 | 4/01/06
01-01-C-02-MCN, Macon, GA. | 8/23/05 | 508,897 | 1,052,392 | 10/01/06 | 5/01/11
03-04-C-01-SGF, Springfield, MO. | 8/23/05 | 1,847,000 | 2,168,000 | 8/01/05 | 8/01/05
99-04-C-03-ILE, Killeen, TX. | 8/23/05 | 2,663,726 | 3,157,543 | 8/01/05 | 12/01/05
01-05-C-01-ILE, Killeen, TX. | 8/23/05 | 30,000 | 30,000 | 1/01/06 | 1/01/06
*93-01-C-03-YUM, Yuma, AZ. | 8/26/05 | 11,285,444 | 2,390,423 | 12/01/27 | 1/01/07
Note: The amendments denoted by an asterisk (*) include a change to the PFC level charged from $3.00 per enplaned passenger to $4.50 per enplaned passenger. For Yuma, AZ and Baton Rouge, LA, this change is effective on October 1, 2005.

Issued in Washington, DC, on December 20, 2005.
Joe Hebert,
Manager, Financial Analysis and Passenger Facility Charge Branch.

[FR Doc. 05-24434 Filed 12-22-05; 8:45 am]

BILLING CODE 4910-13-M